DEPARTMENT OF ENERGY

Federal Energy Regulatory Commission

[Project No. 606-027]

Pacific Gas & Electric Company; Notice of Availability of Supplemental Environmental Assessment

In accordance with the National Environmental Policy Act of 1969 and the Federal Energy Regulatory Commission's (Commission or FERC) regulations, 18 Code of Federal Regulations (CFR) Part 380, Commission staff prepared a Supplemental Environmental Assessment (Supplemental EA), to supplement its Final Environmental Impact Statement (Final EIS), issued August 16, 2011. On March 13, 2009, Pacific Gas & Electric Company (PG&E), filed with the Commission its application to surrender its license for the Kilarc-Cow Hydroelectric Project No. 606. The project is located on Old Cow Creek, South Cow Creek, and tributaries in Shasta County, California.

The Supplemental EA was prepared to address changes that have occurred since the issuance of the Final EIS. Based on staff's independent analysis in the Supplemental EA, Commission approval of PG&E's proposal, as mitigated by the environmental measures discussed in the Supplemental EA, would not constitute a major federal action significantly affecting the quality of the human environment.

The supplemental EA may be viewed on the Commission's website at http://www.ferc.gov using the “elibrary” link. Enter the docket number (P-606) in the docket number field to access the document. At this time, the Commission has suspended access to the Commission's Public Reference Room, due to the proclamation declaring a National Emergency concerning the Novel Coronavirus Disease (COVID-19), issued by the President on March 13, 2020. For assistance, contact FERC Online Support at FERCOnlineSupport@ferc.gov or toll-free at 1-866-208-3372, or for TTY, (202) 502-8659.

All comments on the Supplemental EA must be filed by January 3, 2022. The Commission strongly encourages electronic filing. Please file comments using the Commission's eFiling system at https://ferconline.ferc.gov/eFiling.aspx. Commenters can submit brief comments up to 6,000 characters, without prior registration, using the eComment system at https://ferconline.ferc.gov/QuickComment.aspx. You must include your name and contact information at the end of your comments. For assistance, please contact FERC Online Support. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-606-027.

For further information, contact Rebecca Martin by telephone at 202-502-6012 or by email at Rebecca.Martin@ferc.gov.

Dated: December 3, 2021.
Kimberly D. Bose,
Secretary.

[FR Doc. 2021-26662 Filed 12-8-21; 8:45 am]

BILLING CODE 6717-01-P